DEPARTMENT OF EDUCATION

Eligibility Designations and Applications for Waiving Eligibility Requirements; Programs Under Parts A and F of Title III and Programs Under Title V of the Higher Education Act of 1965, as Amended (HEA)

AGENCY: Office of Postsecondary Education, Department of Education.

ACTION: Notice; correction.

SUMMARY: On December 16, 2019, we published in the Federal Register a notice inviting applications for the waiver of eligibility requirements for fiscal year (FY) 2020 (Eligibility NIA) for programs authorized by Parts A and F of Title III and by Title V of the HEA. This notice revises (a) the Deadline for Transmittal of Applications and (b) information provided in Section I of the notice. All other requirements and conditions in the notice remain the same.

DATES: The correction is applicable January 13, 2020.

FOR FURTHER INFORMATION CONTACT: Dr. Jason Cottrell, U.S. Department of Education, 400 Maryland Avenue SW, Room 250-50, Washington, DC 20202. Telephone: (202) 453-7530. Email: Jason.cottrell@ed.gov.

If you use a telecommunications device for the deaf (TDD) or a text telephone (TTY), call the Federal Relay Service (FRS), toll free, at 1-800-877-8339.

SUPPLEMENTARY INFORMATION: On December 16, 2019, we published in the Federal Register a notice inviting applications for designation as an eligible institution for programs under Parts A and F of Title III and under Title V of the HEA (84 FR 68434). This notice revises: (a) The deadline for transmittal of applications; and (b) the base year 2017-2018 average Pell Grant Percentage for two-year public institutions. All other requirements and conditions in the notice remain the same.

Correction

In FR Doc. 2019-27048, in the Federal Register of December 16, 2019, we make the following revisions:

(a) On page 68434, in the third column, under Dates and after “Deadline for Transmittal of Applications”, we remove the date “January 15, 2020” and replace it with the date “January 31, 2020”.

(b) On page 68436, in the table, under “Base year 2017-2018 average Pell Grant percentage” in the first row, we remove the number “26” and replace it with the number “36”. The corrected table is as follows:

Type of institution | Base year 2017-2018 average Pell Grant percentage | Base year 2017-2018 average core expenses per FTE student
Two-year Public Institutions | 36 | $14,194
Two-year Non-profit Private Institutions | 55 | 15,960
Four-year Public Institutions | 37 | 31,578
Four-year Non-profit Private Institutions | 39 | 40,752

Accessible Format: Individuals with disabilities can obtain this notice and a copy of the application in an accessible format (e.g., braille, large print, audio tape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated:
Robert L. King,
Assistant Secretary for the Office of Postsecondary Education.

[FR Doc. 2020-00290 Filed 1-10-20; 8:45 am]

BILLING CODE 4000-01-P